DEPARTMENT OF COMMERCE

International Trade Administration

[C-469-818]

Ripe Olives From Spain: Final Results of Countervailing Duty Administrative Review; 2021

AGENCY: Enforcement and Compliance, International Trade Administration, Department of Commerce.

SUMMARY: The U.S. Department of Commerce (Commerce) determines that certain producer and exporters of ripe olives from Spain received countervailable subsidies during the period of review (POR) January 1, 2021, through December 31, 2021.

DATES: Applicable March 11, 2024.

FOR FURTHER INFORMATION CONTACT: Dusten Hom or Theodore Pearson, AD/CVD Operations, Enforcement and Compliance, International Trade Administration, U.S. Department of Commerce, 1401 Constitution Avenue NW, Washington, DC 20230; telephone: (202) 482-5075 or (202) 482-2631, respectively.

SUPPLEMENTARY INFORMATION:

Background

On September 7, 2023, Commerce published the Preliminary Results of the 2021 administrative review of the countervailing duty order on ripe olives from Spain and invited comments from interested parties.¹ On December 7, 2023, Commerce extended the deadline for issuing the final results until March 5, 2024.² For a complete description of the events that occurred since the Preliminary Results, see the Issues and Decision Memorandum.³ Commerce conducted this review in accordance with section 751(a)(1)(A) of the Tariff Act of 1930, as amended (the Act).

¹ See Ripe Olives from Spain: Preliminary Results of Countervailing Duty Administrative Review, and Partial Rescission of Review; 2021, 88 FR 61517 (September 7, 2023) (Preliminary Results), and accompanying Preliminary Decision Memorandum.

² See Memorandum, “Extension of Deadline for Final Results of the Countervailing Duty Administrative Review,” dated December 7, 2023.

³ See Memorandum, “Issues and Decision Memorandum for the Final Results of the Countervailing Duty Administrative Review of Ripe Olives from Spain; 2021,” dated concurrently with, and hereby adopted by, this notice (Issues and Decision Memorandum).

Scope of the Order

The products covered by the Order are ripe olives from Spain. For a full description of the scope of the Order, see the Issues and Decision Memorandum.

Analysis of Comments Received

All issues raised by the interested parties in their case and rebuttal briefs are addressed in the Issues and Decision Memorandum. The topics discussed and the issues raised by parties to which we responded in the Issues and Decision Memorandum are listed in the appendix to this notice. The Issues and Decision Memorandum is a public document and is on file electronically via Enforcement and Compliance's Antidumping and CVD Centralized Electronic Service System (ACCESS). ACCESS is available to registered users at https://access.trade.gov. In addition, a complete version of the Issues and Decision Memorandum can be accessed directly at https://access.trade.gov/public/FRNoticesListLayout.aspx.

Changes Since the Preliminary Results

Based on comments received from interested parties, we revised the calculation of the net countervailable subsidy rates for Agro Sevilla Aceitunas, S.Coop.And. (Agro Sevilla). For a discussion of the issues, see the Issues and Decision Memorandum.

Methodology

Commerce conducted this administrative review in accordance with section 751(a)(1)(A) of Act. For each of the subsidy programs found to be countervailable, we determine that there is a subsidy, i.e., a government-provided financial contribution that gives rise to a benefit to the recipient, and that the subsidy is specific.⁴ The Issues and Decision Memorandum contains a full description of the methodology underlying Commerce's conclusions, including our reliance, in part, on facts otherwise available, pursuant to sections 776 of the Act.

⁴ See sections 771(5)(B) and (D) of the Act regarding financial contribution; section 771(5)(E) of the Act regarding benefit; and section 771(5A) of the Act regarding specificity.

Non-Selected Companies' Rate

We made no changes to the methodology for determining a rate for Aceitunas Guadalquivir, S.L. (Guadalquivir), the only company not selected for individual examination from the Preliminary Results. However, due to changes in the benefit calculations for Agro Sevilla, the non-selected rate changed for Guadalquivir. For Guadalquivir, we are applying an ad valorem subsidy rate of 8.14 percent.

Final Results of the Administrative Review

We find the following net countervailable subsidy rates for the POR January 1, 2021, through December 31, 2021:

Producer/exporter | Subsidy rate (percent ad valorem)
Agro Sevilla Aceitunas, S.Coop.And | 7.51
Angel Camacho Alimentación, S.L. and its cross-owned affiliates ⁵ | 9.12
Review-Specific Average Rate Applicable to the Following Companies ⁶
Aceitunas Guadalquivir, S.L.⁷ | 8.14

Disclosure

⁵ Commerce found the following companies to be cross-owned with Angel Camacho Alim entación, S.L.: Grupo Angel Camacho, S.L., Cuarterola S.L., and Cucanoche S.L.

⁶ This rate is based on the rates for the respondents that were selected for individual review, excluding rates that are zero, de minimis, or based entirely on facts available. See section 705(c)(5)(A) of the Act.

⁷ Commerce has previously found, and continues to treat, the following companies to be cross-owned with Aceitunas Guadalquivir, S.L.U.: Coromar Inversiones, S.L., AG Explotaciones Agricolas, S.L.U., and Grupo Aceitunas Guadalquivir, S.L. See, e.g., Ripe Olives from Spain: Final Results of Countervailing Duty Administrative Review; 2020; Correction, 88 FR 21973 (April 12, 2023).

We intend to disclose the calculations and analysis performed for these final results of review within five days after the date of publication of this notice in the Federal Register in accordance with 19 CFR 351.224(b).

Assessment Requirements

In accordance with section 751(a)(2)(C) of the Act and 19 CFR 351.212(b)(2), Commerce shall determine, and U.S. Customs and Border Protection (CBP) shall assess, countervailing duties on all appropriate entries covered by this review. Commerce intends to issue assessment instructions to CBP no earlier than 35 days after publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(1) of the Act, we also intend to instruct CBP to collect cash deposits of estimated countervailing duties in the amounts shown for the companies listed above for shipments of subject merchandise entered, or withdrawn from warehouse, for consumption on or after the date of publication of the final results of this administrative review. For all non-reviewed firms, we will instruct CBP to continue to collect cash deposits of estimated countervailing duties at the all-others rate or the most recent company-specific rate applicable to the company, as appropriate. These cash deposit requirements, when imposed, shall remain in effect until further notice.

Administrative Protective Order

This notice also serves as a final reminder to parties subject to an administrative protective order (APO) of their responsibility concerning the disposition of proprietary information disclosed under APO in accordance with 19 CFR 351.305(a)(3). Timely written notification of the return or destruction of APO materials or conversion to judicial protective order, is hereby requested. Failure to comply with the regulations and terms of an APO is a violation subject to sanction.

Notification to Interested Parties

The final results are issued and published in accordance with sections 751(a)(1) and 777(i)(1) of the Act, and 19 CFR 351.221(b)(5).

Dated: March 5, 2024.
Ryan Majerus,
Deputy Assistant Secretary for Policy and Negotiations, performing the non-exclusive functions and duties of the Assistant Secretary for Enforcement and Compliance.

Appendix

List of Topics Discussed in the Issues and Decision Memorandum

I. Summary

II. Background

III. Scope of the Order

IV. Subsidies Valuation

V. Use of Facts Otherwise Available and Adverse Inferences

VI. Non-Selected Rate

VII. Analysis of Programs

VIII. Analysis of Comments

Comment 1: Whether Commerce's Substantial Dependence Finding Is Lawful and Supported by Substantial Evidence

Comment 2: Whether Commerce Should Apply Adverse Facts Available (AFA) to Camacho's Growers

Comment 3: Whether Agro Sevilla's Non-Responsive Growers Should Receive an AFA Rate Because They Are Affiliated With Agro Sevilla

Comment 4: Whether Commerce Should Determine Additional Growers To Be Uncooperative

Comment 5: Whether Commerce Should Revise its Facts Available (FA) Methodology for Growers That Provided Insufficient Information

IX. Recommendation

[FR Doc. 2024-05112 Filed 3-8-24; 8:45 am]

BILLING CODE 3510-DS-P